DEPARTMENT OF THE INTERIOR

Bureau of Land Management

DEPARTMENT OF AGRICULTURE

Forest Service

[CA 668-02-1610-DO-083A]

Monument Advisory Committee Meeting Schedule

AGENCY: Bureau of Land Management, Interior; United States Forest Service, Agriculture.

ACTION: Notice of meetings.

SUMMARY: The Bureau of Land Management (BLM) and United States Forest Service (USFS) announces the schedule of meetings for the Advisory Committee to the Santa Rosa and San Jacinto Mountains National Monument (hereinafter referred to as “National Monument”). The meetings will be held on the following dates:

Saturday, April 6, 2002

Saturday, June 1, 2002

Saturday, August 3, 2002

Saturday, October 5, 2002

Saturday, December 7, 2002

Saturday, February 1, 2003

The meetings will be held at the Palm Desert City Hall Council Chambers, located at 73-510 Fred Waring Drive, Palm Desert, California, 92260. The meetings will take place from 9 a.m. until 4:00 p.m. There will be a half hour dedicated to public input during both the first half hour of the meetings and at the last half hour of the meetings. A sign up sheet will be located at the meeting room on the day of the meeting. Speakers wishing to comment publicly should sign the public comment sign-in sheet provided at the location of the meetings and provide a written copy of their statement. All committee and subcommittee meetings, including field examinations, will be open to the general public, including representatives of the news media. Any organization, association, or individual may file a statement with or appear before the committee and its subcommittees regarding topics on a meeting agenda—except that the chairperson or the designated federal official may require written comments to the Advisory Committee. The meetings will have agendas developed and available to the public prior to the meeting date. The agendas for each meeting will be located on the Bureau of Land Management web page for the Santa Rosa San Jacinto National Monument (http://www.ca.blm.gov/palmsprings/.) The subject matter of each meeting will focus on the development and implementation of the Santa Rosa San Jacinto Mountains National Monument Management Plan.

The Monument Advisory Committee (MAC) is a committee of citizens appointed to provide advice to the BLM and USFS with respect to preparation and implementation of the management plan for the National Monument as required in the Santa Rosa and San Jacinto Mountains National Monument Act of 2000 (16 U.S.C. 431nt). The act authorized establishment of the MAC with representative members from State and local jurisdictions, the Agua Caliente Band of Cahuilla Indians, a natural science expert, local conservation organization, local developer or building organization, the Winter Park Authority and a representative from the Pinyon Community Council.

The meetings will be open to the public with attendance limited to space available. Individuals who plan to attend and need special assistance such as sign language interpretations or other reasonable accommodations should notify the contact person listed below in advance of the meeting. Persons wishing to make statements will need to sign up at the meeting location.

DATES: April 6, 2002; June 1, 2002; August 3, 2002; October 5, 2002; December 7; 2002; February 1, 2003; All meetings will take place from 9 a.m. to 4 p.m with a morning public comment period from 9 to 9:30 a.m. and an afternoon public comment period from 3:30 to 4 p.m.

ADDRESSES: The meetings will be held in the Council Chambers of the Palm Desert City Hall, 73-510 Fred Waring Drive, Palm Desert, California, 92260.

FOR FURTHER INFORMATION CONTACT: Written comments should be sent to Miss Danella George, Santa Rosa San Jacinto Mountains National Monument Manager, Bureau of Land Management, P.O. Box 581260, North Palm Springs, CA 92258; or by fax at (760) 251-4899 or by e-mail at dgeorge@ca.blm.gov. Information can be found on our webpage: http://www.ca.blm.gov/palmsprings/. Documents pertinent to this notice, including comments with the names and addresses of respondents, will be available for public review at the Palm Springs-South Coast Field Office located at 690 W. Garnet Avenue, North Palm Springs, California, during regular business hours 8 a.m. to 4:30 p.m., Monday through Friday, except holidays.

SUPPLEMENTARY INFORMATION: The Santa Rosa and San Jacinto Mountains National Monument was established by act of Congress and signed into law on October 24, 2000. The National Monument was established in order to preserve the nationally significant biological, cultural, recreational, geological, educational and scientific values found in the Santa Rosa and San Jacinto Mountains. This legislation established the first monument to be jointly managed by the Bureau of Land Management (BLM) and the U.S. Forest Service (USFS). The Santa Rosa and San Jacinto Mountains National Monument Act of 2000 affects only Federal lands and Federal interests located within the established boundaries.

The 272,000 acre Monument encompasses 86,400 acres of Bureau of Land Management lands, 64,400 acres of Forest Service lands, 23,000 acres of Agua Caliente Band of Cahuilla Indians lands, 8,500 acres of California Department of Parks and Recreation lands, 35,800 acres of other State of California agencies lands, and 53,900 acres of private land. The BLM and the Forest Service will jointly manage Federal lands in the National Monument in coordination with the Agua Caliente Band of Cahuilla Indians, other federal agencies, state agencies and local governments.

Dated: February 7, 2002.
Danella George,
Designated Federal Official, National Monument Manager.

Laurie Rosenthal,
District Ranger, San Jacinto Ranger District, San Bernardino National Forest.

[FR Doc. 02-6165 Filed 3-13-02; 8:45 am]

BILLING CODE 4310-32-P